DEPARTMENT OF EDUCATION

Privacy Act of 1974; System of Records

AGENCY: Office of Management, Department of Education.

ACTION: Notice of deletion of existing system of records under the Privacy Act of 1974.

SUMMARY: In accordance with the Privacy Act of 1974, as amended (Privacy Act), the Department of Education (Department) deletes the Discrimination Complaints Records System (18-05-04) from its existing inventory of systems of records subject to the Privacy Act.

DATES: This deletion is effective September 9, 2016.

FOR FURTHER INFORMATION CONTACT: Mr. Michael Chew, Director, Office of Equal Employment Opportunity Services, Office of Management, U.S. Department of Education, 400 Maryland Avenue SW., Washington, DC 20202-4550. Telephone: (202) 401-0691.

If you use a telecommunications device for the deaf or a text telephone, call the Federal Relay Service, toll free, at 1-800-877-8339.

SUPPLEMENTARY INFORMATION: The Department deletes the Discrimination Complaints Records System (18-05-04) from its inventory of record systems subject to the Privacy Act of 1974 (5 U.S.C. 552a), as amended. The deletion is not within the purview of subsection (r) of the Privacy Act, which requires submission of a report on a new or altered system of records.

Under OMB Circular A-130 Appendix I, the transmittal letter of a system of records should contain the agency's assurance that the proposed system does not duplicate any existing agency or government-wide systems of records. The Department's system of records entitled “Discrimination Complaints Records System” (18-05-04), 64 FR 30106, 30124 (June 4, 1999), is to be deleted because it is duplicative of the government-wide system of records entitled “Equal Employment Opportunity in the Federal Government Complaint and Appeal Records” (EEOC/GOVT-1), 67 FR 49338, 49354 (July 30, 2002).

Accessible Format: Individuals with disabilities can obtain this document in an accessible format (e.g., braille, large print, audiotape, or compact disc) on request to the person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: September 2, 2016.
Andrew Jackson,
Assistant Secretary for Management, Office of Management.

[FR Doc. 2016-21776 Filed 9-8-16; 8:45 am]

BILLING CODE 4000-01-P